DEPARTMENT OF THE INTERIOR

Fish and Wildlife Service

[FWS-R4-ES-2012-N027; FXES11130400000C2-123-FF04E00000]

Endangered and Threatened Wildlife and Plants; Notice of Availability of a Technical/Agency Draft Recovery Plan for Alabama Sturgeon

AGENCY: Fish and Wildlife Service, Interior.

ACTION: Notice of availability and request for public comment.

SUMMARY: We, the Fish and Wildlife Service, announce the availability of the technical/agency draft recovery plan for the endangered Alabama Sturgeon. The draft recovery plan includes specific recovery objectives and criteria that would have to be met in order for us to downlist the species to be threatened under the Endangered Species Act of 1973, as amended (Act). We request review and comment on this draft recovery plan from local, State, and Federal agencies, and the public.

DATES: In order to be considered, comments on the draft recovery plan must be received on or before June 11, 2012.

ADDRESSES: If you wish to review this technical/agency draft recovery plan, you may obtain a copy by contacting Jeff Powell, U.S. Fish and Wildlife Service, Alabama Field Office, 1208-B Main Street, Daphne, AL 36532; tel. (251) 441-6630, or by visiting either the Service's recovery plan Web site at http://endangered.fws.gov/recovery/index.html#plans or the Daphne Field Office Web site at http://www.fws.gov/daphne/.

If you wish to comment, you may submit your comments by one of the following methods:

• You may submit written comments and materials to Jeff Powell, at the above address.

• You may hand-deliver written comments to our Alabama Field Office, at the above address, or fax them to (251) 441-6222.

• You may send comments by email to jeff_powell@fws.gov.

For additional information about submitting comments, see the “Request for Public Comments” section below.

FOR FURTHER INFORMATION CONTACT: Jeff Powell, at the above addresses or by telephone: (251) 441-5858.

SUPPLEMENTARY INFORMATION:

Background

The Alabama sturgeon (Scaphirhyncus suttkusi) was listed as an endangered species under the Act (16 U.S.C. 1531 et seq.) on May 5, 2000 (65 FR 26438). Its historic range encompassed all major rivers in the Mobile Basin, including the Alabama, Tombigbee, and Cahaba River systems, below the fall lines for each river. (Fall lines are changes in elevation (i.e., falls) that block navigation upstream by fish.) Recent collections of Alabama sturgeon have been restricted to the lower Alabama River, from below R.F. Henry Lock and Dam to the confluence of the Tombigbee River, and the lower Cahaba River near its confluence with the Alabama River; however, records are extremely rare. The last capture of an Alabama sturgeon was on April 3, 2007, by biologists at the Alabama Department of Conservation and Natural Resources (ADCNR). Critical habitat was designated for the species on June 2, 2009 (74 FR 26488). The Alabama sturgeon is one of the rarest fish in the nation and may be close to extinction.

Restoring an endangered or threatened animal or plant to the point where it is again a secure, self-sustaining member of its ecosystem is a primary goal of our endangered species program. To help guide the recovery effort, we prepare recovery plans for most listed species. Recovery plans describe actions considered necessary for conservation of the species, establish criteria for downlisting or delisting, and estimate time and cost for implementing recovery measures.

The Act requires the development of recovery plans for listed species, unless such a plan would not promote the conservation of a particular species. Section 4(f) of the Act requires us to provide a public notice and an opportunity for public review and comment during recovery plan development. We will consider all information we receive during a public comment period prior to approval of each new or revised recovery plan. We and other Federal agencies will take these comments into account in the course of implementing approved recovery plans.

Recovery Plan Components

The objective of this plan is to provide a framework for the recovery of the Alabama sturgeon, so that protection under the Act is no longer necessary. Delisting is not currently foreseeable, due to extreme curtailment of range and extensive modification to the riverine habitats. Therefore, if finalized, this draft recovery plan would establish downlisting criteria for the Alabama sturgeon so that it may be reclassified as threatened.

Downlisting of the Alabama sturgeon from endangered to threatened will be considered when: (1) A population consisting of approximately 500 sexually mature Alabama sturgeon is shown to be surviving and naturally reproducing in the Alabama/Cahaba Rivers; (2) population studies show that the Alabama sturgeon population is naturally recruiting (consisting of multiple age classes) and sustainable over a period of 20 years (2-3 generations), and no longer requires hatchery augmentation; and (3) an agreement is in place that ensures adequate flows are being delivered down the Alabama River to allow for successful development of sturgeon larvae, and that fish are able to move successfully both upstream and downstream at dams on the Alabama River.

Request for Public Comments

We request written comments on the draft recovery plan. We will consider all comments we receive by the date specified in DATES prior to final approval of the plan.

Public Availability of Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act, 16 U.S.C. 1533 (f).

Dated: February 1, 2012.
Mark J. Musaus,
Acting Regional Director, Southeast Region.

[FR Doc. 2012-8744 Filed 4-11-12; 8:45 am]

BILLING CODE 4310-55-P